DEPARTMENT OF THE INTERIOR

Geological Survey

Draft National Spatial Data Infrastructure Strategic Plan; Comment Request

AGENCY: Geological Survey, Interior.

ACTION: Request for public comment.

SUMMARY: The Federal Geographic Data Committee (FGDC) is soliciting public comments on the draft strategic plan for the National Spatial Data Infrastructure (NSDI). The draft strategic plan, along with instructions for submitting comments, is posted at: www.fgdc.gov/nsdi-plan.

The FGDC is the interagency committee that serves as the lead entity in the executive branch for the development, implementation, and review of policies, practices, and standards relating to geospatial data. The FGDC operates under the authority of the Geospatial Data Act of 2018 (GDA) and Office of Management and Budget (OMB) Circular A-16. One of the FGDC's responsibilities under the GDA is to “prepare and maintain a strategic plan for the development and implementation of the National Spatial Data Infrastructure in a manner consistent with national security, national defense, and emergency preparedness program policies regarding data accessibility.” The GDA describes the NSDI as “the technology, policies, criteria, standards, and employees necessary to promote geospatial data sharing throughout the Federal Government, State, tribal, and local governments, and the private sector (including nonprofit organizations and institutions of higher education).”

DATES: Interested persons are invited to submit comments on or before September 17, 2020.

ADDRESSES: You may provide comments by either of the following methods:

• Submit comments electronically to: nsdicomments@fgdc.gov.

• Submit comments by mail to: Federal Geographic Data Committee, 12201 Sunrise Valley Drive, Mail Stop 590, Reston, VA 20192.

Instructions for submitting comments are posted at: www.fgdc.gov/nsdi-plan.

FOR FURTHER INFORMATION CONTACT: John Mahoney, U.S. Geological Survey (206-220-4621).

SUPPLEMENTARY INFORMATION: The draft NSDI strategic plan has been developed with inputs from a variety of sources, including FGDC member agencies, the National Geospatial Advisory Committee, and geospatial partner organizations. The plan describes a broad national vision for the NSDI and includes goals and objectives for the sustainable development of the NSDI. Following the public comment period, a revised draft of the plan will be prepared for final review and adoption by the FGDC Steering Committee. Following adoption of the strategic plan, the FGDC will develop more detailed project plans for the goals and objectives in the strategic plan.

Additional information about the FGDC is available at www.fgdc.gov. Additional information about the NSDI strategic plan is available at: www.fgdc.gov/nsdi-plan.

Kenneth M. Shaffer,
Deputy Executive Director, Federal Geographic Data Committee, U.S. Geological Survey.

[FR Doc. 2020-18879 Filed 8-26-20; 8:45 am]

BILLING CODE 4311-AM-P